DEPARTMENT OF TRANSPORTATION

Federal Aviation Administration

Notice of Release of Land Affecting Federal Grant Assurance Obligations at Reno-Stead Airport, Reno, Washoe County, Nevada

AGENCY: Federal Aviation Administration, DOT.

ACTION: Notice of request to release airport land.

SUMMARY: The Federal Aviation Administration (FAA) is considering a proposal and invites public comment to change a portion of the airport from aeronautical use to non-aeronautical use at the Reno-Stead Airport (RTS), Reno, Washoe County, Nevada. The proposal consists of approximately 178.5 acres at the southwest end of the RTS property between Army Aviation Drive and Rail Spur Road at the airport property line.

DATES: Comments must be received on or before June 23, 2022.

ADDRESSES: Comments on the request may be mailed or delivered to the FAA at the following address: Mr. Mike N. Williams, Manager, Phoenix Airports District Office, Federal Aviation Administration, 3800 N Central Ave., Suite 1025, 10th Floor, Phoenix, Arizona 85012. In addition, one copy of the comment submitted to the FAA must be mailed or delivered to Daren Griffin, President/CEO, Reno-Tahoe Airport Authority, P.O. Box 12490, Reno, Nevada 89510-2490.

SUPPLEMENTARY INFORMATION: The land was originally acquired by the City of Reno through the Federal Property and Administrative Services Act of 1947 and the Surplus Property Act of 1944, by the Administrator of General Services on December 19, 1966, with corrected Quitclaim Deeds on August 29, 1967 and August 14, 1968. The land was transferred to the Washoe County Airport Authority by the City of Reno on June 25, 1979. The land will be released from aeronautical obligations for a future non-aeronautical use. Such use of the land represents a compatible land use that will not interfere with the airport or its operation, thereby protecting the interests of civil aviation. The airport will be compensated for the fair market value of the use of the land.

In accordance with the Wendell H. Ford Aviation Investment and Reform Act for the 21st Century (AIR 21), Public Law 10-181 (Apr. 5, 2000; 114 Stat. 75), this notice must be published in the Federal Register 30 days before the DOT Secretary may waive any condition imposed on a federally obligated airport by surplus property conveyance deeds or grant agreements.

Issued in El Segundo, California, on May 18, 2022.
Brian Q. Armstrong,
Manager, Safety and Standards Branch, Airports Division, Western-Pacific Region.

[FR Doc. 2022-11083 Filed 5-23-22; 8:45 am]

BILLING CODE 4910-13-P